Executive Order 13987 of January 20, 2021

Organizing and Mobilizing the United States Government To Provide a Unified and Effective Response To Combat COVID-19 and To Provide United States Leadership on Global Health and Security

By the authority vested in me as President by the Constitution and the laws of the United States of America, it is hereby ordered as follows:

Section 1. Purpose. The Federal Government must act swiftly and aggressively to combat coronavirus disease 2019 (COVID-19). To that end, this order creates the position of Coordinator of the COVID-19 Response and Counselor to the President and takes other steps to organize the White House and activities of the Federal Government to combat COVID-19 and prepare for future biological and pandemic threats.

Sec. 2. Organizing the White House to Combat COVID-19. (a) In order to effectively, fully, and immediately respond to COVID-19, there is established within the Executive Office of the President the position of Coordinator of the COVID-19 Response and Counselor to the President (COVID-19 Response Coordinator) and the position of Deputy Coordinator of the COVID-19 Response. The COVID-19 Response Coordinator shall report directly to the President; advise and assist the President and executive departments and agencies (agencies) in responding to the COVID-19 pandemic; coordinate all elements of the COVID-19 response; and perform such duties as the President may otherwise direct. These duties shall include:

(i) coordinating a Government-wide effort to reduce disparities in the response, care, and treatment of COVID-19, including racial and ethnic disparities;

(ii) coordinating the Federal Government's efforts to produce, supply, and distribute personal protective equipment, vaccines, tests, and other supplies for the Nation's COVID-19 response, including through the use of the Defense Production Act, as amended (50 U.S.C. 4501 et seq.);

(iii) coordinating the Federal Government's efforts to expand COVID-19 testing and the use of testing as an effective public health response;

(iv) coordinating the Federal Government's efforts to support the timely, safe, and effective delivery of COVID-19 vaccines to the United States population;

(v) coordinating the Federal Government's efforts to support the safe reopening and operation of schools, child care providers, and Head Start programs, and to help ensure the continuity of educational and other services for young children and elementary and secondary students during the COVID-19 pandemic; and

(vi) coordinating, as appropriate, with State, local, Tribal, and territorial authorities.

(b) The COVID-19 Response Coordinator shall have the authority to convene principals from relevant agencies, in consultation with the Assistant to the President for Domestic Policy (APDP) on matters involving the domestic COVID-19 response, and in consultation with the Assistant to the President for National Security Affairs (APNSA) on matters involving the global COVID-19 response. The COVID-19 Response Coordinator shall also coordinate any corresponding deputies and interagency processes.

(c) The COVID-19 Response Coordinator may act through designees in performing these or any other duties.

Sec. 3. United States Leadership on Global Health and Security and the Global COVID-19 Response.

(a) Preparing to Respond to Biological Threats and Pandemics. To identify, monitor, prepare for, and, if necessary, respond to emerging biological and pandemic threats:

(i) The APNSA shall convene the National Security Council (NSC) Principals Committee as necessary to coordinate the Federal Government's efforts to address such threats and to advise the President on the global response to and recovery from COVID-19, including matters regarding: the intersection of the COVID-19 response and other national security equities; global health security; engaging with and strengthening the World Health Organization; public health, access to healthcare, and the secondary impacts of COVID-19; and emerging biological risks and threats, whether naturally occurring, deliberate, or accidental.

(ii) Within 180 days of the date of this order, the APNSA shall, in coordination with relevant agencies, the COVID-19 Response Coordinator, and the APDP, complete a review of and recommend actions to the President concerning emerging domestic and global biological risks and national biopreparedness policies. The review and recommended actions shall incorporate lessons from the COVID-19 pandemic and, among other things, address: the readiness of the pandemic supply chain, healthcare workforce, and hospitals; the development of a framework of pandemic readiness with specific triggers for when agencies should take action in response to large-scale biological events; pandemic border readiness; the development and distribution of medical countermeasures; epidemic forecasting and modeling; public health data modernization; bio-related intelligence; bioeconomic investments; biotechnology risks; the development of a framework for coordinating with and distributing responsibilities as between the Federal Government and State, local, Tribal, and territorial authorities; and State, local, Tribal, and territorial preparedness for biological events.

(b) NSC Directorate on Global Health Security and Biodefense. There shall be an NSC Directorate on Global Health Security and Biodefense, which shall be headed by a Senior Director for Global Health Security and Biodefense. The Senior Director shall be responsible for monitoring current and emerging biological threats, and shall report concurrently to the APNSA and to the COVID-19 Response Coordinator on matters relating to COVID-19. The Senior Director shall oversee the Global Health Security Agenda Interagency Review Council, which was established pursuant to Executive Order 13747 of November 4, 2016 (Advancing the Global Health Security Agenda To Achieve a World Safe and Secure From Infectious Disease Threats), and is hereby reconvened as described in that order.

(c) Responsibility for National Biodefense Preparedness. Notwithstanding any statements in the National Security Presidential Memorandum-14 of September 18, 2018 (Support for National Biodefense), the APNSA shall be responsible for coordinating the Nation's biodefense preparedness efforts, and, as stated in sections 1 and 2 of this order, the COVID-19 Response Coordinator shall be responsible for coordinating the Federal Government's response to the COVID-19 pandemic.

Sec. 4. Prompt Resolution of Issues Related to the United States COVID-19 Response. The heads of agencies shall, as soon as practicable, bring any procedural, departmental, legal, or funding obstacle to the COVID-19 response to the attention of the COVID-19 Response Coordinator. The COVID-19 Response Coordinator shall, in coordination with relevant agencies, the APDP, and the APNSA, as appropriate, immediately bring to the President's attention any issues that require Presidential guidance or decision-making.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to availability of appropriations.

(c) This order is not intended to, and does not, create any right or benefit, substantive or procedural, enforceable at law or in equity by any party against the United States, its departments, agencies, or entities, its officers, employees, or agents, or any other person.

THE WHITE HOUSE,

January 20, 2021.

[FR Doc. 2021-01759

Filed 1-22-21; 11:15 am]

Billing code 3295-F1-P